DEPARTMENT OF HEALTH AND HUMAN SERVICES

Centers for Disease Control and Prevention

[Program Announcement 02111]

Fetal Alcohol Syndrome (FAS) Surveillance and Prevention Project in the Republic of South Africa (RSA); Notice of Award

A. Purpose

The Centers for Disease Control and Prevention (CDC) announces the award of $150,000 in fiscal year (FY) 2002 for a cooperative agreement program for Fetal Alcohol Syndrome (FAS) Surveillance and Prevention Project in the Republic of South Africa (RSA) with the Foundation for Alcohol Related Research (FARR) Project in collaboration with the National Health Laboratory Services (NHLS) and the University of Witwatersrand. The award is anticipated to begin in August 2002, with a 12-month budget period within a project period of up to three years.

The purpose of the program is to: (1) Develop an ongoing surveillance system for FAS; (2) estimate the prevalence of FAS in South African Provinces; (3) investigate and implement strategies for prevention; (4) complete needs assessments detailing the availability of and gaps in alcohol prevention and treatment services for women and intervention services for children; and (5) develop local epidemiology capacity through training of key study staff.

The Foundation for Alcohol Related Research (FARR) Project in collaboration with the National Health Laboratory Services (NHLS) and the University of Witwatersrand is the most appropriate and qualified agency to conduct activities under this Cooperative Agreement because:

1. FARR is the only organization in South Africa that can perform this activity. They are recognized by the South African National Department of Health as the only organization doing FAS epidemiologic research.

2. FARR was established in 1996 as a non-government (#97/00190/08) organization (NGO) whose mission is the prevention of FAS through surveillance, training, clinical diagnostic services, and epidemiological research.

3. The FARR leadership was the first to identify children with FAS in South Africa and bring international attention to the extent of the problem there.

4. FARR's goals and objectives are to prevent FAS through the exchange of information, enabling collaborative research, consultation and assistance to health care providers in the nine provinces. They have trained health care providers in all provinces and continue to develop surveillance systems to monitor trends and evaluate prevention efforts. FARR has five specific aims in its charter: (1) To evaluate the pathogenesis of FAS in at-risk South African communities; (2) to investigate the prevalence, psychosocial factors and disabilities associated with FAS; (3) evaluate the costs of FAS to exchequer of South Africa; (4) to set up prevention/intervention programmes in order to lessen the frequency of FAS, reduce the prevalence of alcohol abuse, prevent secondary disabilities, and educate the public on the dangers of alcohol-abuse during pregnancy; and (5) to increase capacity, expertise and knowledge of FAS in health professionals and the general public.

B. Where To Obtain Additional Information

To obtain business management technical assistance, contact: Cynthia Collins, Contracts and Grants Management Specialist, International & Territories Acquisition & Assistance Branch, Procurement and Grants Office, Centers for Disease Control and Prevention (CDC), 2920 Brandywine Road, Room 3000, Atlanta, GA 30341-4146, Telephone: (770) 488-2757, E-mail address: coc9@cdc.gov.

Program technical assistance may be obtained from: Karen Hymbaugh, Telephone: (770) 488-7373, E-mail address: kxh5@cdc.gov or Connie Granoff, Telephone: (770) 488-7513, E-mail address: clg4@cdc.gov, National Center on Birth Defects & Developmental Disabilities, Centers for Disease Control and Prevention (CDC), 4770 Buford Highway NE., Atlanta, GA 30341-3724.

Dated: August 7, 2002.
Sandra R. Manning,
Director, Procurement and Grants Office, Centers for Disease Control and Prevention.

[FR Doc. 02-20812 Filed 8-15-02; 8:45 am]

BILLING CODE 4163-18-P